DEPARTMENT OF THE TREASURY

Internal Revenue Service

Open Meeting of the Joint Committee of the Taxpayer Advocacy Panel

AGENCY: Internal Revenue Service (IRS), Treasury.

ACTION: Notice.

SUMMARY: An open meeting of the Joint Committee of the Taxpayer Advocacy Panel will be conducted. The Taxpayer Advocacy Panel is soliciting public comments, ideas and suggestions on improving customer service at the Internal Revenue Service.

DATES: The meeting will be held Saturday, October 4, 2003 from 12:30 p.m. e.d.t. to 1 p.m. e.d.t.

FOR FURTHER INFORMATION CONTACT: Barbara Toy at 1-888-912-1227, or 414-297-1611.

SUPPLEMENTARY INFORMATION: Notice is hereby given pursuant to section 10(a)(2) of the Federal Advisory Committee Act, 5 U.S.C. App. (1988) that an open meeting of the Joint Committee of the Taxpayer Advocacy Panel will be held Saturday, October 4, 2003, from 12:30 p.m. e.d.t. to 1 p.m. e.d.t. at Grand Hyatt Hotel, 1000 H Street, NW., Washington, DC. Written comments will be accepted by mail. If you would like to have the TAP consider a written statement, please call 1-888-912-1227 or (414) 297-1611 or write Barbara Toy, TAP Office, 310 West Wisconsin Avenue Stop 1006MIL, Milwaukee, WI 53203. Mrs. Toy can be reached at 1-888-912-1227 or (414) 297-1611. The agenda will include various IRS issues.

Dated: September 5, 2003.
Tersheia Carter,
Acting Director, Taxpayer Advocacy Panel.

[FR Doc. 03-23477 Filed 9-12-03; 8:45 am]

BILLING CODE 4830-01-P